BUREAU OF CONSUMER FINANCIAL PROTECTION

[Docket No CFPB-2013-0024]

Agency Information Collection Activities: Comment Request

AGENCY: Bureau of Consumer Financial Protection.

ACTION: Notice and request for comment.

SUMMARY: In accordance with the Paperwork Reduction Act of 1995 (PRA), the Consumer Financial Protection Bureau (Bureau) is proposing a new information collection titled, “Evaluations of Financial Capability Programs for Economically-Vulnerable Consumers: Two Randomized Evaluations.”

DATES: Written comments are encouraged and must be received on or before September 30, 2013 to be assured of consideration.

ADDRESSES: You may submit comments, identified by the title of the information collection, OMB Control Number (see below), and docket number (see above), by any of the following methods:

• Electronic: http://www.regulations.gov. Follow the instructions for submitting comments.

• Mail/Hand Delivery/Courier: Consumer Financial Protection Bureau (Attention: PRA Office), 1700 G Street NW., Washington, DC 20552.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street NW., Washington, DC 20552, (202) 435-9575, or email: PRA@cfpb.gov. Please do not submit comments to this mailbox.

SUPPLEMENTARY INFORMATION: Title of Collection: Evaluations of Financial Capability Programs for Economically-Vulnerable Consumers: Two Randomized Evaluations.

OMB Control Number: 3170-XXXX.

Type of Review: Regular.

Affected Public: Individuals.

Estimated Number of Respondents: 2,700.

Estimated Total Annual Burden Hours: 1,350.

Abstract: The aim of this data collection effort is to understand the impact of bundled products and services on the financial decision-making of economically-vulnerable consumers in the United States. The information will be collected from economically-vulnerable consumers who consent to participate in these research studies. The target population for this survey collection is low-income, underserved consumers who are considered unbanked, underbanked, or have thin or no credit files and therefore have financial services needs that are not being met. We will collect information about the financial health of these consumers, such as the amount of money they hold in savings, their credit score, and the size of their debt to income ratio. We will also collect information about their financial capability. The purpose of this data collection effort is to understand whether bundled products and services that are designed to build savings and credit for economically-vulnerable consumers have an impact on assets building and financial capability.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: July 24, 2013.
Matthew Burton,
Acting Chief Information Officer, Bureau of Consumer Financial Protection.

[FR Doc. 2013-18484 Filed 7-31-13; 8:45 am]

BILLING CODE 4810-AM-P